NATIONAL AERONAUTICS AND SPACE ADMINISTRATION

[NOTICE: (21-072)]

Privacy Act of 1974; System of Records

AGENCY: National Aeronautics and Space Administration (NASA).

ACTION: Notice of a Modified System of Records.

SUMMARY: Pursuant to the provisions of the Privacy Act of 1974, the National Aeronautics and Space Administration is issuing public notice of its proposal to significantly alter a previously noticed system of records Reasonable Accommodation (RA) Records/NASA 10RAR to include the provision of religious accommodations under Title VII of the Civil Rights Act of 1964. The prior notice exclusively addressed reasonable accommodations for employees or applicants with disabilities but is being revised to include both types of accommodation requests. This notice adds two new authorities, expands categories of records, updates technical safeguards, updates system and subsystem managers. It adds one location, revises two and deletes two routine uses, all that are unique to this system. This notice incorporates locations and NASA standard routine uses that were previously published separately from, and cited by reference in, this and other NASA systems of records notices. Finally, it revises and adds to previously published Standard Routine Uses. Further details are set forth below under the caption. SUPPLEMENTARY INFORMATION.

DATES: Submit comments within 30 calendar days from the date of this publication. The changes will take effect at the end of that period if no adverse comments are received.

ADDRESSES: Patti F. Stockman, Privacy Act Officer, Office of the Chief Information Officer, Mary W. Jackson NASA Headquarters, Washington, DC 20546-0001, (202) 358-4787, NASA-PAOfficer@nasa.gov.

FOR FURTHER INFORMATION CONTACT: NASA Privacy Act Officer, Patti F. Stockman, (202) 358-4787, NASA-PAOfficer@nasa.gov.

SUPPLEMENTARY INFORMATION: One of the most significant changes to the notice is that it now includes requests made by employees or applicants for religious accommodations in accordance with Title VII of the Civil Rights Act of 1964. The information collected will be used to document and evaluate a request for accommodation. The prior notice exclusively addressed reasonable accommodations for employees or applicants with disabilities but is being revised to include medical and religious accommodation requests. This system notice therefore adds both 42 U.S.C. 2000e et seq. and 29 CFR pt. 1605 as authorities. It deletes Routine Uses 1 and 3 unique to this system of records as they are duplicated by NASA's Standard Routine Uses; revises newly renumbered Routine Use 1 that is unique to this system of records to indicate release of records from appeals by either employees or applicants; and revises renumbered Routine Use 3 that is unique to this system of records to allow disclosure of records to Federal officials or their assignees responsible for ensuring compliance under Title VII of the Civil Rights Act. This notice expands categories of records to include information associated with accommodation based on sincerely held religious beliefs, practices, or observances. It adds a new cloud location; and updates System Manager(s) and Physical Safeguards to reflect current manager titles and current information technology security protocols. It incorporates in whole, as appropriate, information formerly published separately in the Federal Register as Appendix A, Location Numbers and Mailing Addresses of NASA Installations at which Records are Located, and Appendix B, Standard Routine Uses—NASA. This notice revises Standard Routine Use 4 to clarify conditions under which NASA will release records to a legal body for a proceeding involving NASA and revises Standard Routine Use 5 to clarify potential release of records to legal or administrative bodies in the course of civil or legal proceedings. This notice revises Standard Routine Use 6 and adds new Standard Routine Use 9, both to enable the Agency to release records as necessary (1) to respond to a breach of the agency's personally identifiable information (PII) or (2) to assist another agency in response to a breach of its PII. Finally, this notice adds new Standard Routine Uses 10 and 11 allowing release to other agencies to aid their functions of inspection, audit or oversight as authorized by law. Finally, minor revisions to NASA's existing system of records notice bring its format into compliance with OMB guidance and update records access, notification, and contesting procedures consistent with NASA Privacy Act regulations.

Cheryl Parker,
Federal Register Liaison Officer.

SYSTEM NAME AND NUMBER:

Reasonable Accommodation (RA) Records, NASA 10RAR.

SECURITY CLASSIFICATION:

None.

SYSTEM LOCATION:

Amazon Web Services, 410 Terry Avenue North, Seattle, WA 98109;

Mary W. Jackson NASA Headquarters, Washington, DC 20546-0001;

Ames Research Center (NASA), Moffett Field, CA 94035-1000;

Armstrong Flight Research Center (NASA), PO Box 273, Edwards, CA 93523-0273;

John H. Glenn Research Center at Lewis Field (NASA), 21000 Brookpark Road, Cleveland, OH 44135-3191;

Goddard Space Flight Center (NASA), Greenbelt, MD 20771-0001;

Lyndon B. Johnson Space Center (NASA), Houston, TX 77058-3696;

John F. Kennedy Space Center (NASA), Kennedy Space Center, FL 32899-0001;

Langley Research Center (NASA), Hampton, VA 23681-2199;

George C. Marshall Space Flight Center (NASA), Marshall Space Flight Center, AL 35812-0001;

John C. Stennis Space Center (NASA), Stennis Space Center, MS 39529-6000;

NASA Shared Services Center (NSSC), Building 5100, Stennis Space Center, MS 39529-6000; and

Wallops Flight Facility (NASA), Wallops Island, VA 23337.

SYSTEM MANAGER(S):

Associate Administrator, Office of Diversity and Equal Opportunity (ODEO), NASA Headquarters (see System Location above for address).

Subsystem Managers: ODEO Director, Diversity and Data Analytics Division; and Agency Disability Program Manager at NASA Headquarters (see System Location above for address);

Center ODEO Directors and Center Disability Program Managers, at:

NASA Ames Research Center (see System Location above for address);

NASA Armstrong Flight Research Center (see System Location above for address);

NASA Glenn Research Center (see System Location above for address);

NASA Goddard Space Flight Center (see System Location above for address);

NASA Headquarters (see System Location above for address);

NASA Johnson Space Center (see System Location above for address);

NASA Kennedy Space Center (see System Location above for address);

NASA Langley Research Center (see System Location above for address);

NASA Marshall Space Flight Center (see System Location above for address);

NASA Stennis Space Center (see System Location above for address);

NASA Shared Services Center (NSSC) (see System Location above for address); and

Wallops Flight Facility (see System Location above for address).

AUTHORITY FOR MAINTENANCE OF THE SYSTEM:

29 U.S.C. 791 et seq.; 42 U.S.C. 12101 et seq.; 42 U.S.C. 2000e et seq.; 44 U.S.C. 3101; 51 U.S.C. 20113(a); Exec. Order No. 11478; Exec. Order No. 13164; 29 CFR pt. 1605; 29 CFR pt. 1614; 29 CFR pt. 1630.

PURPOSE(S) OF THE SYSTEM:

This system is maintained for the purpose of considering, deciding and implementing requests for reasonable accommodation made by NASA employees and applicants for employment.

CATEGORIES OF INDIVIDUALS COVERED BY THE SYSTEM:

This system maintains records of requests by (1) NASA employees; or (2) applicants for employment who are seeking reasonable accommodation and also contains the disposition of such requests.

CATEGORIES OF RECORDS IN THE SYSTEM:

Records may include, but are not limited to: Requests for reasonable accommodation including supporting documents for such requests; information concerning the nature of the disability or religious belief, practice, or observance and the need for accommodation; medical records or other substantiating documentation; notes or records made during evaluation of such requests; requests for reconsideration or internal Agency appeals; and disposition all requests and appeals.

RECORD SOURCE CATEGORIES:

Individuals themselves; Associate Administrator for Diversity and Equal Opportunity, and all designees, including NASA Center E.O. Directors and Center Disability Program Managers; EEOC officials.

ROUTINE USES OF RECORDS MAINTAINED IN THE SYSTEM, INCLUDING CATEGORES OF USERS AND PURPOSES OF SUCH USES:

Any disclosures of information will be compatible with the purpose for which the Agency collected the information. Under the following routine uses that are unique to this system of records, information in this system may be disclosed: (1) To an authorized appeal grievance examiner, formal complaints examiner, administrative judge, equal employment opportunity investigator, arbitrator or other duly authorized official engaged in investigation or settlement of a grievance, complaint or appeal filed by an employee or applicant; (2) to first aid and safety personnel, when appropriate, if the disability might require emergency treatment; (3) to Federal Government officials or any of their assignees charged with the responsibility of investigating NASA's compliance with The Rehabilitation Act of 1973, as amended, or the Genetic Information Nondiscrimination Act of 2008 (GINA), or Title VII of the Civil Rights Act; (4) to the Office of Management and Budget (OMB), Department of Labor (DOL), Office of Personnel Management (OPM), Equal Employment Opportunity Commission (EEOC), or Office of Special Counsel (OSC) to obtain advice regarding statutory, regulatory, policy, and other requirements related to reasonable accommodation; and (5) in accordance with NASA standard routine uses as set forth here.

In addition, the following routine uses of information contained in SORs, subject to the Privacy Act of 1974, are standard for many NASA systems. Any disclosures of information will be compatible with the purpose for which the Agency collected the information.

Standard Routine Use No. 1—In the event this system of records indicates a violation or potential violation of law, whether civil, criminal, or regulatory in nature, and whether arising by general statute or particular program statute, or by regulation, rule or order issued pursuant thereto, the relevant records in the SOR may be referred to the appropriate agency, whether Federal, State, local or foreign, charged with the responsibility of investigating or prosecuting such violation or charged with enforcing or implementing the statute, or rule, regulation or order issued pursuant thereto.

Standard Routine Use No. 2—A record from this SOR may be disclosed to a Federal, State, or local agency maintaining civil, criminal, or other relevant enforcement information or other pertinent information, such as current licenses, if necessary to obtain information relevant to an agency decision concerning the hiring or retention of an employee, the issuance of a security clearance, the letting of a contract, or the issuance of a license, grant, or other benefit.

Standard Routine Use No. 3—A record from this SOR may be disclosed to a Federal agency, in response to its request, in connection with the hiring or retention of an employee, the issuance of a security clearance, the reporting of an investigation of an employee, the letting of a contract, or the issuance of a license, grant, or other benefit by the requesting agency, to the extent that the information is relevant and necessary to the requesting agency's decision on the matter.

Standard Routine Use No. 4—A record from this system may be disclosed to the Department of Justice including United States Attorney Offices, or other federal agency conducting litigation or in proceedings before any court, adjudicative or administrative body, when the record is relevant or necessary to the litigation or the agency has an interest in such litigation when (a) the Agency, or any component thereof; or (b) any employee or former employee of the Agency in his or her official capacity; or (c) any employee of the Agency in his or her individual capacity where the Department of Justice or the Agency has agreed to represent the employee; or (d) the United States, where the Agency determines that litigation is likely to affect the Agency or any of its components, is a party to litigation or has an interest in such litigation, and the use of such records by the Department of Justice or the Agency is deemed by the Agency to be relevant and necessary to the litigation.

Standard Routine Use No. 5—A record from this SOR may be disclosed in an appropriate proceeding before a court, grand jury, or administrative or adjudicative body, when NASA determines that the records are relevant to the proceeding; or in an appropriate proceeding before an administrative or adjudicative body when the adjudicator determines the records to be relevant to the proceeding.

Standard Routine Use No. 6—A record from this SOR may be disclosed to appropriate agencies, entities, and persons when (1) NASA suspects or has confirmed that there has been a breach of the system of records; (2) NASA has determined that as a result of the suspected or confirmed breach there is a risk of harm to individuals, NASA (including its information systems, programs, and operations), the Federal Government, or national security; and (3) the disclosure made to such agencies, entities, and persons is reasonably necessary to assist in connection with NASA's efforts to respond to the suspected or confirmed breach or to prevent, minimize, or remedy such harm.

Standard Routine Use No. 7—A record from this system may be disclosed to contractors, grantees, experts, consultants, students, and others performing or working on a contract, service, grant, cooperative agreement, or other assignment for the federal government, when necessary to accomplish an Agency function related to this system of records.

Standard Routine Use No. 8—A record from this system may be disclosed to a Member of Congress or staff acting upon the Member's behalf when the Member or staff requests the information on behalf of, and at the request of, the individual who is the subject of the record.

Standard Routine Use No. 9—A record from this system may be disclosed to another Federal agency or Federal entity, when NASA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

Standard Routine Use No. 10—To the National Archives and Records Administration (NARA) or the General Services Administration (GSA) pursuant to records management inspections being conducted under the authority of 44 U.S.C. 2904 and 2906.

Standard Routine Use No. 11—To another agency, or organization for purpose of performing audit or oversight operations as authorized by law, but only such information as is necessary and relevant to such audit or oversight function.

POLICIES AND PRACTICES FOR STORAGE OF RECORDS:

Records in this system are maintained in hard-copy and electronically, and within Agency-wide Intranet database and tracking system.

POLICIES AND PRACTICES FOR RETRIEVAL OF RECORDS:

Records in the system are retrieved by name of the employee or applicant requesting accommodation, case identification number, or NASA Center from which the request originated.

POLICIES AND PRACTICES FOR RETENTION AND DISPOSAL OF RECORDS:

Records are maintained and destroyed in accordance with NPR 1441.1 NASA Records Retention Schedules, Schedule 3 Item 2.6.

ADMINISTRATIVE, TECHNICAL, AND PHYSICAL SAFEGUARDS:

Electronic records are maintained on secure NASA servers and protected in accordance with all Federal standards and those established in NASA regulations at 14 CFR 1212.605. Additionally, server and data management environments employ infrastructure encryption technologies both in data transmission and at rest on servers. Electronic messages sent within and outside of the Agency are encrypted and transmitted by staff via pre-approved electronic encryption systems as required by NASA policy. Approved security plans are in place for information systems containing the records in accordance with the Federal Information Security Management Act of 2002 (FISMA) and OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication. Non-electronic records are secured in locked rooms or locked file cabinets.

RECORD ACCESS PROCEDURES:

In accordance with 14 CFR part 1212, Privacy Act—NASA Regulations, information may be obtained by contacting in person or in writing the system or subsystem manager listed above at the location where the records are created and/or maintained. Requests must contain the identifying data concerning the requester, e.g., first, middle, and last name; date of birth; description and time periods of the records desired. NASA Regulations also address contesting contents and appealing initial determinations regarding records access.

CONTESTING RECORD PROCEDURES:

In accordance with 14 CFR part 1212, Privacy Act—NASA Regulations, information may be obtained by contacting in person or in writing the system or subsystem manager listed above at the location where the records are created and/or maintained. Requests must contain the identifying data concerning the requester, e.g., first, middle and last name; date of birth; description and time periods of the records desired. NASA Regulations also address contesting contents and appealing initial determinations regarding records access.

NOTIFICATION PROCEDURES:

In accordance with 14 CFR part 1212, Privacy Act—NASA Regulations, information may be obtained by contacting in person or in writing the system or subsystem manager listed above at the location where the records are created and/or maintained. Requests must contain the identifying data concerning the requester, e.g., first, middle, and last name; date of birth; description and time periods of the records desired. NASA Regulations also address contesting contents and appealing initial determinations regarding records access.

EXEMPTIONS PROMULGATED FOR THE SYSTEM:

None.

HISTORY:

(15-117, 80 FR 246, pp. 79947-79949)

(15-068, 80 FR 193, pp. 60410-60411)

(11-091, 76 FR 200, pp. 64112-64114)

[FR Doc. 2021-24867 Filed 11-12-21; 8:45 am]

BILLING CODE 7510-13-P